OFFICE OF NATIONAL DRUG CONTROL POLICY

Appointment of Members of Senior Executive Services Performance Review Board

AGENCY: Office of National Drug Control Policy [ONDCP].

ACTION: Notice of appointments.

SUMMARY: The following persons have been appointed to the ONDCP Senior Executive Service Performance Review Board: Mr. Thomas Riley, Ms. Michele Marx, Mr. Robert Denniston, and Mr. Patrick Ward.

FOR FURTHER INFORMATION: Please direct any questions to Linda V. Priebe, Assistant General Counsel (202) 395-6622, Office of National Drug Control Policy, Executive Office of the President, Washington, DC 20503.

Linda V. Priebe,
Assistant General Counsel.

[FR Doc. E7-16646 Filed 8-22-07; 8:45 am]

BILLING CODE 3180-02-P